FEDERAL ELECTION COMMISSION

Sunshine Act Meeting

Date & Time: Tuesday, January 15, 2002 at 10:00 a.m.

Place: 999 E Street, NW., Washington, DC.

STATUS: This meeting will be closed to the public.

Items To Be Discussed:

Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

Date & Time: Thursday, January 17, 2002 at 10:00 a.m.

Place: 999 E Street, NW., Washington, DC (Ninth Floor).

Status: This meeting will be open to the public.

Items To Be discussed:

Correction and Approval of Minutes.

Revised Draft Advisory Opinion 2001-17: DNC Services Corporation/Democratic National Committee by counsel, Neil Reiff.

Draft Advisory Opinion 2001-18: BellSouth Corporation by counsel, Jan Witold Baran.

Draft Advisory Opinion 2001-19: Oakland Democratic Campaign Committee by Gary Kohut, Chair.

Administrative matters.

PERSON TO CONTACT FOR INFORMATION: Mr. Ron Harris, Press Officer, Telephone: (202) 694-1220.

Mary W. Dove,
Secretary of the Commission.

[FR Doc. 02-776 Filed 1-8-02; 2:32 am]

BILLING CODE 6715-01-M